DEPARTMENT OF STATE

[Public Notice 5243]

Culturally Significant Object Imported for Exhibition; Determinations: “Portraits of a People: Picturing African Americans in the Nineteenth Century'

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, and Delegation of Authority No. 257 of April 15, 2003 [68 FR 19875], I hereby determine that the object to be included in the exhibition Portraits of a People: Picturing African Americans in the Nineteenth Century,” imported from abroad for temporary exhibition within the United States, is of cultural significance. The object is imported pursuant to a loan agreement with the foreign lender. I also determine that the exhibition or display of the exhibit object at the Addison Gallery of American Art, Andover, MA from on or about January 14, 2006 to on or about March 14, 2006, Delaware Art Museum, Wilmington, DE from on or about April 21, 2006 to on or about July 16, 2006, Long Beach Museum of Art, Long Beach, CA from on or about August 25, 2006 to on or about November 26, 2006, and at possible additional venues yet to be determined, is in the national interest. Public Notice of these determinations is ordered to be published in the Federal Register.

FOR FURTHER INFORMATION CONTACT: For further information, including the exhibit object, contact Carol B. Epstein, Attorney-Adviser, Office of the Legal Adviser, Department of State, (telephone: 202/453-8048). The address is Department of State, SA-44, 301 4th Street, SW., Room 700, Washington, DC 20547-0001.

Dated: December 5, 2005.
C. Miller Crouch,
Principal Deputy Assistant Secretary for Educational and Cultural Affairs, Department of State.

[FR Doc. 05-23918 Filed 12-9-05; 8:45 am]

BILLING CODE 4710-08-P